DEPARTMENT OF TRANSPORTATION

Federal Transit Administration

Discretionary Funding Opportunity: Grants for Pilot Program for Expedited Project Delivery

AGENCY: Federal Transit Administration (FTA), DOT.

ACTION: Notice of funding opportunity (NOFO).

SUMMARY: The Federal Transit Administration (FTA) announces the opportunity to apply for a total of $225 million in Fiscal Year (FY) 2020, FY 2019, FY 2017 and FY 2016 funds under the Expedited Project Delivery Pilot Program (EPD Pilot Program) authorized by Section 3005(b) of the Fixing America's Surface Transportation Act (FAST Act). The EPD Pilot Program is aimed at expediting delivery of new fixed guideway capital projects, small starts projects, or core capacity improvement projects. These projects must utilize public-private partnerships, be operated and maintained by employees of an existing public transportation provider, and have a Federal share not exceeding 25 percent of the project cost. The FAST Act specifies that not more than eight projects can be awarded grants under the EPD Pilot Program. FTA may award additional funds if they are made available to the EPD Pilot Program.

DATES: Applications will be accepted on a rolling basis until up to eight grants are awarded and subject to funding availability. Complete proposals must be submitted electronically through the EPD Pilot Program website at https://www.transit.dot.gov/funding/grants/pilot-program-expedited-project-delivery-3005b. Mail and fax submissions will not be accepted.

FOR FURTHER INFORMATION CONTACT: Susan Eddy, FTA Office of Planning and Environment, 202-366-5499, or susan.eddy@dot.gov.

SUPPLEMENTARY INFORMATION:

Table of Contents

A. Program Description

B. Federal Award Information

C. Eligibility Information

D. Application and Submission Information

E. Application Review Information

F. Federal Award Administration Information

G. Federal Awarding Agency Contacts

A. Program Description

Section 3005(b) of the FAST Act, Public Law 114-94 (December 4, 2015), authorizes FTA to award not more than eight grants for the EPD Pilot Program through a discretionary process, as described in this notice, for new fixed guideway capital projects, small starts projects, or core capacity improvement projects that have not yet entered a construction grant agreement with the FTA. The law defines these types of eligible projects for the EPD Pilot Program in a manner similar to, but not entirely the same as, FTA's Capital Investment Grants (CIG) program. The FTA encourages applicants to review the definitions found in Section C of this NOFO to ensure the project's eligibility. Projects must utilize public-private partnerships, be operated and maintained by employees of an existing public transportation provider, and have a Federal share not exceeding 25 percent of the project cost.

On September 12, 2018, FTA published a Federal Register Notice (FRN) soliciting expressions of interest in the EPD Pilot Program. In response to the FRN, four project sponsors, representing a total of seven projects, submitted expressions of interest. FTA worked with all four project sponsors to further define the steps in the EPD Pilot Program for the projects to be eligible for funding. On August 28, 2019, FTA announced the allocation of $125 million under the EPD Pilot Program to the Santa Clara Valley Transportation Authority (VTA) for the Bay Area Rapid Transit (BART) Silicon Valley Phase II project. VTA was one of the four sponsors that previously expressed an interest in the program. The remaining $100 million is currently available for allocation.

All interested project sponsors, including those who submitted expressions of interest in response to the FRN, even if they have received or will receive an allocation, must meet the EPD Pilot Program requirements contained in this NOFO and must apply based on the requirements further described in this NOFO before they can be considered for a construction grant agreement. Project sponsors who did not previously express an interest in the EPD Pilot Program are eligible to apply to the EPD Pilot Program consistent with the eligibility and application requirements of the EPD Pilot Program.

B. Federal Award Information

Congress appropriated $100 million for the EPD Pilot Program in FY 2020, $100 million in FY 2019, $20 million in FY 2017, and $5 million in FY 2016. The FTA is announcing the opportunity to apply for $225 million in grant funding through this notice. Successful applicants will receive a grant from FTA.

The FTA will grant pre-award authority to incur costs for selected projects beginning on the date that the project selections are announced.

C. Eligibility Information

1. Eligible Applicants

Eligible applicants to the EPD Pilot Program are state or local government authorities who must demonstrate:

a. The requisite legal, financial, and technical capacities to carry out the eligible project, including the safety and security aspects of the eligible project;

b. Satisfactory continuing control over the use of the equipment or facilities;

c. The technical and financial capacity to maintain new and existing equipment and facilities;

d. That they have qualified advisors providing guidance on the terms and structure of the project who are independent from investors in the project; and

e. That the existing public transportation system is in a state of good repair.

2. Cost Sharing or Matching

a. The maximum Federal share for projects selected under the EPD Pilot Program is 25 percent of the total project cost.

b. The remainder of the capital project cost shall be provided from an undistributed cash surplus, a replacement or depreciation cash fund or reserve, or new capital.

3. Eligible Projects

Under the EPD Pilot Program, eligible projects are new fixed guideway capital projects, small start projects, or core capacity improvement projects that have not entered into a full funding grant agreement with FTA. New fixed guideway capital projects or small start projects may include the acquisition of real property, the initial acquisition of rolling stock for the system, the acquisition of right-of-way, and relocation. Core capacity improvement projects may include the acquisition of real property, the acquisition of rights-of-way, double tracking, signalization improvements, electrification, expanding system platforms, acquisition of rolling stock associated with corridor improvements increasing capacity, construction of infill stations, and such other capacity improvements as FTA determines are appropriate to increase the capacity of an existing fixed guideway system corridor by not less than 10 percent. Core capacity improvement projects may not include elements to improve general station facilities or parking, or acquisition of rolling stock alone.

Eligible projects must:

a. Be included in an approved transportation plan, approved transportation improvement program, and statewide transportation improvement program as required under 49 U.S.C. 5303 and 5304;

b. Be supported through a public-private partnership;

c. Identify and demonstrate an acceptable degree of local financial commitment;

d. Be operated and maintained by employees of an existing provider of fixed guideway or bus rapid transit public transportation in the service area of the project, or if none exists, by employees of an existing transportation provider in the service area;

e. Have completed the planning and activities required under the National Environmental Policy Act (NEPA) of 1969 (42 U.S.C. 4321, et seq.);

f. Not be the subject of an outstanding injunction or stop work order;

g. Have executed all identified critical third-party agreements; and

h. Have completed at least 30 percent of project design and engineering.

4. Definitions

For purposes of this notice, the following definitions will apply:

a. The term “new fixed guideway capital project” means:

i. A fixed guideway project that is a minimum operable segment or extension to an existing fixed guideway system; or

ii. a fixed guideway bus rapid transit project that is a minimum operable segment or an extension to an existing bus rapid transit system.

b. The term “fixed guideway bus rapid transit project” means a bus capital project:

i. In which the majority of the project operates in a separated right-of-way dedicated for public transportation use during peak periods;

ii. that represents a substantial investment in a single route in a defined corridor or subarea; and

iii. that includes features that emulate the services provided by rail fixed guideway public transportation systems, including:

(a) Defined stations;

(b) traffic signal priority for public transportation vehicles;

(c) short headway bidirectional services for a substantial part of weekdays and weekend days; and

(d) any other features the Secretary of Transportation may determine are necessary to produce high-quality public transportation services that emulate the services provided by rail fixed guideway public transportation systems.

c. The term “small start project” means a new fixed guideway capital project, a fixed guideway bus rapid transit project, or a corridor-based bus rapid transit project for which:

i. The Federal assistance provided or to be provided under this EPD Pilot Program is less than $75,000,000; and

ii. the total estimated capital cost is less than $300,000,000.

d. The term “corridor-based bus rapid transit project” means a small start project utilizing buses in which the project represents a substantial investment in a defined corridor as demonstrated by features that emulate the services provided by rail fixed guideway public transportation systems:

i. Including:

(a) defined stations;

(b) traffic signal priority for public transportation vehicles;

(c) short headway bidirectional services for a substantial part of weekdays; and

(d) any other features the Secretary of Transportation may determine support a long-term corridor investment; and

ii. the majority of which does not operate in a separated right-of-way dedicated for public transportation use during peak periods.

e. The term “core capacity improvement project”:

i. Means a substantial corridor-based capital investment in an existing fixed guideway system that increases the capacity of a corridor by not less than 10 percent; and

ii. may include project elements designed to aid the existing fixed guideway system in making substantial progress towards achieving a state of good repair.

f. The terms “capital project”, “fixed guideway”, “local governmental authority”, “public transportation”, “State”, and “state of good repair” have the meanings given those terms in section 5302 of title 49, United States Code.

g. The term “public-private partnership” means a contractual agreement formed between a public agency and a private sector entity that is characterized by private sector investment and risk-sharing in the delivery, financing, and/or operation of a capital project; and to maintain eligibility for the EPD Pilot Program, the capital project must be operated and maintained by employees of an existing public transportation provider.

h. The term “critical third-party agreement” means one which has been identified by the applicant and verified during the application review process by FTA in collaboration with the applicant and any other project participant, as required before construction or operations can begin, the absence of which may significantly change the cost, scope and schedule. Further FTA information on critical third party agreements can be found at https://www.transit.dot.gov/sites/fta.dot.gov/files/docs/regulations-and-guidance/116521/op-39-3rd-party-agreements-01-2018.pdf.

i. The term “committed funds” means that the funds have all necessary approval (legislative or referendum) to be used to fund the project without any additional action. Examples of evidence include an adopted state annual budget and an adopted multi-year local Capital Improvement Program (CIP).

j. The term “30 percent of project design and engineering” means the FTA expects the applicant to provide documents at the following level of detail:

i. Project Management Plan (PMP) and sub-plans—should include processes and procedures to continuously manage the project and a staffing plan that identifies key personnel and demonstrates the applicant's management capacity and capability. For elements and requirements of Project Management Plans (PMP) and sub-plans see 49 CFR 633;

ii. Project definition—key elements are identified and reasonably defined;

iii. Cost Estimate—addresses key items within the project's work breakdown structure at an appropriate level and is formatted using the FTA's Standard Cost Categories (see “SCC Definitions” tab of SCC Workbook found at https://www.transit.dot.gov/funding/grants/pilot-program-expedited-project-delivery-3005b). Includes both the basis for the estimate and required contingency based on the level of design and in accordance with FTA and industry best practices;

iv. Schedule—addresses key activities, milestones and elements within the project's work breakdown structure and incorporates proposed delivery methodology;

v. Third Party Agreements and Right-of-Way—are identified with a plan and schedule for completion;

vi. Project Delivery Method—the delivery method is identified (with related methodologies, activities, and milestones reflected throughout the other required products);

vii. Value Engineering (VE) Report—the report is substantially complete and a draft report shared with FTA where applicable (for example, a separate VE report may not be needed for some project delivery methods such as design-build, since bidders may be required to provide the VE options as part of their proposals.);

viii. Safety—a preliminary safety hazard analysis and a preliminary threat and vulnerability analysis have been completed and the development of safety and security design criteria has been initiated;

ix. Accessibility—the applicant demonstrates steps that will be taken to ensure compliance with DOT regulations and standards issued under the Americans with Disabilities Act, including a preliminary analysis of accessibility features such as accessible routes to, from, and within the station sites or boarding locations; detectable warnings; signage and communications; curb ramps; and other accessibility features required under the ADA; and

x. Constructability Review Report—a draft report is submitted, where applicable (for example, for very simple projects, a constructability review early might not yield great benefits). The report includes at a minimum the general construction approach, a discussion of site access, and other potential constraints.

Further details are contained on the EPD Pilot Program website: https://www.transit.dot.gov/funding/grants/pilot-program-expedited-project-delivery-3005b.

k. The term “level of service” (LOS) is used to qualitatively describe the operating conditions of a transportation facility. Applicants may use the definition and methodology contained in the Transportation Research Board (TRB) Highway Capacity Manual (HCM), the American Association of State Highway and Transportation Officials (AASHTO) A Policy on Geometric Design of Highways and Streets, or a similar traffic analysis method.

l. The term “Full Funding Grant Agreement” means an agreement between the applicant and FTA that shall:

i. Establish the terms of participation by the Federal Government in the eligible project;

ii. Establish the maximum amount of Federal financial assistance for the eligible project;

iii. Include the period of time for completing construction of the eligible project, consistent with the terms of the public-private partnership agreement, even if that period extends beyond the period of an authorization;

iv. Make timely and efficient management of the eligible project easier according to the law of the United States;

v. Obligate an amount of available budget authority specified in law and may include a commitment, contingent on amounts to be specified in law in advance for commitments, to obligate an additional amount from future available budget authority specified in law; and

vi. State that the contingent commitment is not an obligation of the Federal Government.

D. Application and Submission Information

1. Address To Request Application Package

Applications must be submitted electronically through the EPD Pilot Program website at https://www.transit.dot.gov/funding/grants/pilot-program-expedited-project-delivery-3005b. The website includes the required forms and specific instructions for the forms and attachments required for submission. Applicants may also attach additional supporting information. Mail and fax submissions will not be accepted. Failure to submit the information as required can delay or prevent review of the application.

2. Content and Form of Application Submission

A strong transportation network is critical to functioning and growth of the American economy. The nation's industry depends on the transportation network to move the goods that it produces and facilitate the movements of the workers who are responsible for that production. When the nation's highways, railways and ports function well, that infrastructure connects people to jobs, increases the efficiency of delivering goods and thereby cuts the costs of doing business, reduces the burden of commuting, and improves overall well-being.

Rural transportation networks play a vital role in supporting our national economic vitality. Addressing the deteriorating conditions and disproportionately high fatality rates on our rural transportation infrastructure is of critical interest to the Department, as rural transportation networks face unique challenges in safety, infrastructure condition, and passenger and freight usage. Consistent with the R.O.U.T.E.S. Initiative, the Department encourages applicants to consider how the project will address the challenges faced by rural areas.

A complete proposal submission consists of all required forms and attachments found at https://www.transit.dot.gov/funding/grants/pilot-program-expedited-project-delivery-3005b. A complete application must include responses to all sections of the forms, unless indicated as optional. The information on the forms and attachments will be used to determine the applicant and project eligibility for the program, and to evaluate the proposal against the criteria described in this notice.

Applicants may attach additional supporting information to the submission, including but not limited to, letters of support or excerpts from relevant planning documents. Supporting documentation must be described and referenced by file name in the appropriate response section of the mandatory forms, or it may not be reviewed.

The mandatory forms found at https://www.transit.dot.gov/funding/grants/pilot-program-expedited-project-delivery-3005b will prompt applicants for the required information, including:

a. Applicant name;

b. Dun and Bradstreet (D&B) Data Universal Numbering System (DUNS) number;

c. Key contact information (including contact name, address, email address, and phone);

d. Congressional district(s) where project will take place;

e. Project information (including title, an executive summary, and project type);

f. A detailed description of the project scope;

g. A detailed description of how the project meets the EPD Pilot Program definition of new fixed guideway capital project, small start project, or core capacity improvement project;

h. A brief description of the need for the project and how the project will support the EPD Pilot Program's objectives;

i. A map of the project;

j. Evidence that the project is included in the approved Metropolitan Transportation Plan, Transportation Improvement Program and Statewide Transportation Improvement Program;

k. Evidence that the NEPA review for the project is complete;

l. Evidence of the Public-Private Partnership;

m. Evidence of advisors providing guidance on the terms and structure of the project that are independent from investors in the project;

n. Self-certification that the project is not the subject of an outstanding injunction or stop work order.

o. A list of all identified critical third-party agreements and execution dates;

p. A description of the technical, legal and financial capacity of the applicant;

q. A detailed project budget;

r. Identification of the local cost share and evidence that all the non-Federal capital funds are currently available or committed. Applicants should submit evidence of availability of funds for the project, for example, by including documentation of the source of local funds such as a budget document highlighting the line item or section committing funds to the proposed project;

s. The most recent Audited Financial Statement documenting the financial health of the applicant. If the applicant will not operate and maintain the project, the most recent Audited Financial Statement documenting the financial health of the transit system that will operate and maintain the project must also be provided;

t. System-wide operations and maintenance costs and funding sources for the transit system that will operate and maintain the project for the first five years of operation of the project;

u. A detailed project schedule;

v. Evidence that the applicant has completed at least 30 percent design and engineering;

w. Identify whether the project would be in a qualified opportunity zone designated pursuant to 26 U.S.C. Section 1400Z-1;

x. Evidence that the project is justified based on findings presented by the applicant on mobility improvements attributable to the project. This could be provided by evidence of the reduced transit travel time during the peak period from end to end of the project after revenue service starts compared to the transit travel time during the peak period at present;

y. Evidence that the project is justified based on findings presented by the applicant on environmental benefits associated with the project. This could be provided by evidence of the reduced energy consumption by highway and transit vehicles after revenue service starts compared to the present;

z. Evidence that the project is justified based on findings presented by the applicant on congestion relief associated with the project. This could be provided by a description of the current Level of Service (LOS) on the roads in the project corridor;

aa. Evidence that the project is justified based on findings presented by the applicant on the economic development effects derived as a result of the project. This could take the form of documentation of the maximum residential, commercial and mixed-use development that could take place within one-half mile of all new station areas, based on currently adopted zoning ordinances;

bb. Evidence that the project is justified based on estimated ridership projections developed through the use of FTA's Simplified Trips-on Project Software (https://www.transit.dot.gov/funding/grant-programs/capital-investments/stops);

cc. Self-certification that the existing public transportation system of the applicant or, in the event the applicant does not operate a public transportation system, the public transportation system to which the proposed project will be attached, is in a state of good repair. This requirement may be waived by FTA if the project meets the definition of a core capacity improvement project, and FTA determines that the eligible project will allow the applicant to make substantial progress in achieving a state of good repair. Applicants should provide information to enable FTA to make this determination; and

dd. A description of how the applicant intends to conduct a Before and After Study that describes and analyzes the impacts of the proposed project on public transportation services and public transportation ridership as required by the EPD Pilot Program. Applicants must also provide information on the predicted benefits and costs for the innovative project development delivery method or innovative financing.

3. Unique Entity Identifier and System for Award Management (SAM)

Each applicant is required to: (1) Be registered in SAM before submitting an application; (2) provide a valid unique entity identifier in its application; and (3) continue to maintain an active SAM registration with current information at all times during which the applicant has an active Federal award or an application or plan under consideration by FTA. These requirements do not apply if the applicant has an exemption approved by FTA under Federal grants and agreements law (2 CFR Section 25.110(d)). FTA may not make an award until the applicant has complied with all applicable unique entity identifier and SAM requirements. If an applicant has not fully complied with the requirements by the time FTA is ready to make an award, FTA may determine that the applicant is not qualified to receive an award and use that determination as a basis for making a Federal award to another applicant. All applicants must provide a unique entity identifier provided by SAM. SAM registration takes approximately 3-5 business days, but FTA recommends allowing ample time, up to several weeks, for completion of all steps. For additional information on obtaining a unique entity identifier, please visit www.sam.gov.

4. Submission Dates and Times

Applications will be accepted on a rolling basis until up to eight grants are awarded and subject to funding availability. Complete proposals must be submitted electronically through the EPD Pilot Program website at https://www.transit.dot.gov/funding/grants/pilot-program-expedited-project-delivery-3005b.

5. Intergovernmental Review

This program is not subject to Executive Order 12372, “Intergovernmental Review of Federal Programs.”

6. Funding Restrictions

Funds under this NOFO cannot be used to reimburse applicants for otherwise eligible expenses incurred prior to FTA award of a grant agreement until FTA has issued pre-award authority for selected projects.

E. Application Review Information

1. Evaluation Criteria

FTA will evaluate project proposals for the EPD Pilot Program based on the criteria described in this notice. Projects will be evaluated primarily on the responses provided in the required forms and attachments found at https://www.transit.dot.gov/funding/grants/pilot-program-expedited-project-delivery-3005b. Additional information may be provided to support the responses; however, any additional documentation must be directly referenced on a required form, including the file name where the additional information can be found.

Consistent with the Department's R.O.U.T.E.S. Initiative (https://www.transportation.gov/rural), the Department recognizes that rural transportation networks face unique challenges. To the extent that those challenges are reflected in the merit criteria listed in this section, the Department will consider how the activities proposed in the application will address those challenges.

a. Demonstration of Eligibility:

Applications will be evaluated based on the quality and extent to which they demonstrate that the proposed project meets the eligibility requirements contained in Section 3005(b) of the FAST Act and this NOFO.

b. Project Justification:

Applications will be evaluated based on the quality and extent to which they demonstrate how the proposed project is justified for the following factors:

i. Mobility improvements attributable to the project;

ii. Environmental improvements associated with the project;

iii. Congestion relief associated with the project;

iv. Economic development effects derived as a result of the project; and

v. Estimated ridership projections.

c. Financial Commitment:

Applications will be evaluated based on the quality and extent to which they demonstrate that the proposed project has an acceptable degree of local financial commitment, including evidence of stable and dependable financing sources, including:

i. Each proposed source of capital and operating financing is stable, reliable, and available within the proposed eligible project timetable; and

ii. Resources are available to recapitalize, maintain, and operate the overall existing and proposed public transportation system, including essential feeder bus and other services necessary, without degradation to the exiting level of public transportation services.

d. Technical Capacity

Applications will be evaluated based on the quality and extent to which they demonstrate that the applicant has the technical capacity to undertake the project.

e. Technical, Legal and Financial Capacity

Applicants must demonstrate that they have the technical, legal and financial capacity to undertake the project. FTA will review relevant oversight assessments and records to determine whether there are any outstanding legal, technical or financial issues with the applicant that would affect the outcome of the proposed project. Applicants with outstanding legal, technical or financial compliance issues from an FTA compliance review or Federal Transit grant-related Single Audit finding must explain how corrective actions taken will mitigate negative impacts on the proposed project.

2. Review and Selection Process Information

In addition to other FTA staff that may review the proposals, a technical evaluation committee will evaluate proposals based on the published evaluation criteria. After applying the above criteria, the FTA Administrator will consider the following key Departmental objectives:

• Supporting economic vitality at the national and regional level;

• Utilizing alternative funding sources and innovative financing models to attract non-Federal sources of infrastructure investment;

• Accounting for the life-cycle costs of the project to promote the state of good repair;

• Using innovative approaches to improve safety and expedite project delivery; and

• Holding grant recipients accountable for their performance and achieving specific, measurable outcomes identified by grant applicants.

Prior to making an award, FTA is required to review and consider any information about the applicant that is in the Federal Awardee Performance and Integrity Information Systems (FAPIIS) accessible through SAM. An applicant may review and comment on information about itself that a Federal awarding agency previously entered. FTA will consider any comments by the applicant, in addition to the other information in FAPIIS, in making a judgment about the applicant's integrity, business ethics, and record of performance under Federal awards when completing the review of risk posed by the applicant.

The FTA Administrator will determine the final selection of projects for program funding. In determining the allocation of program funds, FTA may consider geographic diversity, diversity in the size of the transit systems receiving funding, the applicant's receipt of other competitive awards, projects located in or that support public transportation service in a qualified opportunity zone designated pursuant by 26 U.S.C. Section 1400Z-1, the percentage of local share provided, and whether the project includes an innovative technology or practice.

F. Federal Award Administration Information

1. Federal Award Notice

The FTA will notify an applicant in writing not later than 120 days after the receipt of a complete application as to whether the grant request has been approved, or if the request does not meet the requirements of this NOFO, disapproval of the grant request, including a detailed explanation of the reasons for disapproval.

Project selections will be posted on the FTA website.

At the time a project selection is announced, FTA will extend pre-award authority for the selected project. There is no blanket pre-award authority for a project before announcement.

2. Administrative and National Policy Requirements

a. Pre-Award Authority

The FTA will issue specific guidance to recipients regarding pre-award authority at the time of selection. The FTA does not provide pre-award authority for competitive funds until projects are selected and even then, there are Federal requirements that must be met before costs are incurred. For more information about FTA's policy on pre-award authority, please see the FY 2020 Apportionment Notice published on June 3, 2020 which can be accessed at https://www.govinfo.gov/content/pkg/FR-2020-06-03/pdf/2020-11946.pdf.

b. Grant Requirements

If selected, awardees will enter into a Full Funding Grant Agreement with the Federal Transit Administration. The selected awardees will apply for a grant through FTA's Transit Award Management System (TrAMS). All recipients must follow the Award Management Requirements (FTA Circular 5010.1E), and the labor protections required by Federal public transportation law (49 U.S.C. 5333(b)). Technical assistance regarding these requirements is available from each FTA regional office.

c. Buy America and Strengthening Buy-American Preferences for Infrastructure Projects

The FTA requires that all capital procurements meet FTA's Buy America requirements (49 U.S.C. 5323(j)), which require that all iron, steel, or manufactured products be produced in the United States, to help create and protect manufacturing jobs in the United States. The EPD Pilot Program will have a significant economic impact toward meeting the objectives of the Buy America law. For FY 2020 and beyond, the cost of components and subcomponents produced in the United States must be more than 70 percent of the cost of all components. Final assembly of rolling stock must occur in the United States. Any proposal that will require a waiver must identify in the application the items for which a waiver will be sought. Applicants should not proceed with the expectation that waivers will be granted, nor should applicants assume that selection of a project under the EPD Pilot Program that includes a partnership with a manufacturer, vendor, consultant, or other third party constitutes a waiver of the Buy America requirements applicable at the time the project is undertaken.

Consistent with Executive Order 13858 Strengthening Buy-American Preferences for Infrastructure Projects, signed by President Trump on January 31, 2019, applicants should maximize the use of goods, products, and materials produced in the United States, in Federal procurements and through the terms and conditions of Federal financial assistance awards.

d. Disadvantaged Business Enterprise

FTA requires that its recipients receiving planning, capital and/or operating assistance that will award prime contracts exceeding $250,000 in FTA funds comply with the Disadvantaged Business Enterprise (DBE) program regulations (49 CFR part 26). The rule requires that, prior to bidding on any FTA-assisted vehicle procurement, entities that manufacture vehicles or perform post-production alterations or retrofitting must submit a DBE Program plan and annual goal methodology to FTA. Further, to the extent that a vehicle remanufacturer is responding to a solicitation for new or remanufactured vehicles with a vehicle to which the remanufacturer has provided post-production alterations or retro-fitting (e.g., replacing major components such as the engine to provide a “like new” vehicle), the vehicle remanufacturer is considered a transit vehicle manufacturer and must also comply with the DBE regulations.

FTA will then issue a transit vehicle manufacturer (TVM) concurrence/certification letter. Grant recipients must verify each entity's compliance with these requirements before accepting its bid. A list of compliant, certified TVMs is posted on FTA's website at www.transit.dot.gov/TVM. Please note that this list is nonexclusive and recipients must contact FTA before accepting bids from entities not listed on this Web posting. Recipients may also establish project-specific DBE goals for vehicle procurements. FTA will provide additional guidance as grants are awarded. For more information on DBE requirements, please contact Scheryl Portee, the Office of the Chief Counsel, at 202-366-0840, email: scheryl.portee@dot.gov.

e. Planning

FTA encourages applicants to notify the appropriate State Departments of Transportation and MPOs in areas likely to be served by the project funds made available under this program. Selected projects must be incorporated into the long-range plans and transportation improvement programs of States and metropolitan areas before they are eligible to apply for EPD Pilot Program funding.

f. Major Capital Projects

FTA requires that projects that meet the definition of a major capital project as defined in 49 CFR part 633 comply with the requirements of Project Management Oversight as defined in 59 CFR part 633.

g. Standard Assurances

By submitting a grant application, the applicant assures that it will comply with all applicable Federal statutes, regulations, executive orders, directives, FTA circulars and other Federal administrative requirements in carrying out any project supported by the FTA grant. Further, the applicant acknowledges that it is under a continuing obligation to comply with the terms and conditions of the grant agreement issued for its project with FTA. The applicant understands that Federal laws, regulations, policies and administrative practices might be modified from time to time and may affect the implementation of the project. The applicant agrees that the most recent Federal requirements will apply to the project, unless FTA issues a written determination otherwise. The applicant must submit the Certifications and Assurances before receiving a grant, if it does not have current certifications on file.

3. Reporting

Post-award reporting requirements include the electronic submission of Federal Financial Reports and Milestone Progress Reports in FTA's electronic grants management system. Recipients of funds made available through this NOFO are also required to regularly submit data to the National Transit Database.

G. Federal Awarding Agency Contacts

For further information concerning this notice, please contact the EPD Pilot Program manager, Susan Eddy, via email at susan.eddy@dot.gov or by phone at 202-366-5499. A TDD is available for individuals who are deaf or hard of hearing at 800-877-8339. In addition, FTA will post answers to questions and requests for clarifications on FTA's website at https://www.transit.dot.gov/funding/grants/pilot-program-expedited-project-delivery-3005b. Contact information for FTA's regional offices can be found on FTA's website at https://www.transit.dot.gov/about/regional-offices/regional-offices.

To ensure the receipt of accurate information about eligibility or the program, applicants with questions are encouraged to contact FTA directly, rather than through intermediaries or third parties.

K. Jane Williams,
Acting Administrator.

[FR Doc. 2020-16342 Filed 7-27-20; 8:45 am]

BILLING CODE P